DEPARTMENT OF LABOR

Office of the Solicitor; Agency Information Collection Activities: Proposed Collection; Comment Request; Equal Access to Justice Act

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995. See 44 U.S.C. 3506(c)(2)(A). The program helps to ensure that requested data can be provided in the desired format, reporting burden (time and financial resources) is minimized, collection instruments are understood clearly, and the impact of the collection requirements on respondents can be assessed properly. Currently the Office of the Solicitor is soliciting comments concerning the proposed extension of the information collection required in applications to obtain awards in administrative proceedings subject to the Equal Access to Justice Act.

DATES: Written comments must be submitted by February 28, 2005.

ADDRESSES: Comments are to be submitted to the Department of Labor, Office of Solicitor, Attn: April Nelson, 200 Constitution Avenue, NW., (Room N-2428), Washington, DC 20210. Written comments limited to 10 pages or fewer may be transmitted by facsimile to (202) 693-5539.

FOR FURTHER INFORMATION CONTACT: Contact April Nelson, Office of Solicitor, telephone (202) 693-5782. Copies of the referenced information collection request are available in room N-1301, U.S. Department of Labor, 200 Constitution Avenue, NW., Washington, DC 20210. The collection request and applicable supporting documentation may be obtained by contacting Darrin King by telephone at (202) 693-4129 or by e-mail at king.darrin@dol.gov.

SUPPLEMENTARY INFORMATION:

I. Background

The Equal Access to Justice Act (EAJA) provides for the award of fees and expenses, under certain circumstances, to parties involved in adversary adjudications with the United States. 5 U.S.C. 504. The statute, at 5 U.S.C. 504(a)(2), requires that a party seeking an award of fees and expenses in a covered proceeding must submit to the agency “an application which shows that the party is the prevailing party and is eligible to receive an award” under EAJA.

The Department of Labor's regulations at 29 CFR Part 16 implement EAJA, and 29 CFR 16.201 sets forth the required elements of an EAJA award application. Under this regulation, EAJA award applications must include information regarding the following: The identity of the applicant, the proceeding for which an award is sought, the fact that the applicant has prevailed, the agency position alleged not to be substantially justified, the number of employees of the applicant at the time the proceeding was instituted (if the applicant is other than an individual), the type and purpose of the applicant's organization or business (if applicable), net worth and/or other designated information, and amounts requested. Certain certifications, affidavits and other documents also are required. See 29 CFR 16.201-16.204 for a complete description of information required from applicants.

II. Desired Focus of Comments

The Department of Labor is interested in comments particularly in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

This notice requests an extension of the current Office of Management and Budget (OMB) approval of the paperwork requirements for the contents of applications for an award under the Equal Access to Justice Act.

Type of Review: Extension of a currently approved collection of information.

Agency: Office of the Solicitor.

Title: Equal Access to Justice Act.

OMB Number: 1225-0013.

Affected Public: Individuals or households; Business or other for-profit; Not-for-profit institutions; Federal government; State, local or tribal government.

Number of Respondents: 10.

Frequency: On occasion.

Total Responses: 10.

Average Time per Response: 5 hours.

Estimated Total Burden Hours: 50 hours.

Total annualized capital/startup costs: $0.

Total Annualized costs (operation and maintenance): $0.

Comments submitted in response to this notice will be summarized and may be included in the request for OMB approval of the final information collection request. The comments will become a matter of public record.

Signed at Washington, DC, this 23rd day of December, 2004.
Robert A. Shapiro,
Associate Solicitor for Legislation and Legal Counsel.

[FR Doc. 04-28620 Filed 12-29-04; 8:45 am]

BILLING CODE 4510-23-P